DEPARTMENT OF COMMERCE

International Trade Administration

[A-533-809]

Certain Forged Stainless Steel Flanges from India: Notice of Partial Rescission of New Shipper Review

AGENCY: Import Administration, International Trade Administration, Department of Commerce.

SUMMARY: The Department of Commerce (the Department) is rescinding the new shipper review of Pradeep Metals Limited. We initiated this review on October 6, 2006. See Stainless Steel Flanges from India: Notice of Initiation of Antidumping Duty New Shipper Reviews, 71 FR 59081 (October 6, 2006). Our basis for rescinding this new shipper review is described below.

EFFECTIVE DATE: March 30, 2007.

FOR FURTHER INFORMATION CONTACT: Michael J. Heaney or Robert James, AD/CVD Operations, Office 7, Import Administration, International Trade Administration, U.S. Department of Commerce, 14th Street and Constitution Avenue, NW, Washington, DC 20230; telephone: (202) 482 4475 or (202) 482-0649, respectively.

SUPPLEMENTARY INFORMATION:

Background

On August 31, 2006, we received requests from Micro Forge (India) Ltd. (Micro) and Pradeep Metals Limited (Pradeep), two Indian manufacturers of forged stainless steel flanges, for new shipper reviews. On October 6, 2006, based on the certifications and documentation these companies submitted, we initiated a new shipper review for both Micro and Pradeep. See Stainless Steel Flanges from India: Notice of Initiation of Antidumping Duty New Shipper Reviews, 71 FR 59081 (October 6, 2006). The period of review for the new shipper review is February 1, 2006, through July 31, 2006.

We issued our antidumping questionnaire for the new shipper review to Pradeep on October 13, 2006. We received a section A response from Pradeep on October 30, 2006. We received Pradeep's response to sections B, C and D of our questionnaire on November 14, 2006.

In its August 31, 2006 request for a new shipper review, Pradeep indicated that its first and only entry of flanges into the United States occurred on March 21, 2006. Subsequent to initiating the new shipper reviews the Department conducted a data query of entry information from Customs and Border Protection (CBP). The data obtained from CBP were placed on the record of this proceeding. See November 14, 2006 Memorandum from Fred Baker to the file: “U.S. entry Documents-Stainless Steel Flanges from India” (Pradeep Entry Memorandum). We determined, based on our review of the data obtained from CBP, that Pradeep had exported flanges to the United States three to five years prior to the period covered by the new shipper review, and therefore pursuant to 19 CFR 351.214(b)(2)(iv)(A),(B) and (C) did not qualify for a new shipper review for the period February 1, 2006, through July 31, 2006. See November 20, 2006 Memorandum from Fred Baker to the File: Intent to Rescind New Shipper Review of Pradeep Metals, Ltd (Department's Rescission Memorandum). The Department's Rescission Memorandum also stated our intent to rescind the new shipper review with respect to Pradeep based on Pradeep having exported subject merchandise to the United States prior to the period covered by the new shipper review. See ibid.

We invited parties to submit comments on our intent to rescind. On December 5, 2006 we received comments from Pradeep. In its December 5, 2006, letter, Pradeep maintains that in some instances unaffiliated companies supplied raw materials to Pradeep which were used to make flanges. However, Pradeep asserts that these unaffiliated companies continued to maintain title to the merchandise. Pradeep further maintains that while its name appears on Customs entry documentation, the CBP documentation fails to establish that Pradeep “sold the subject flanges to the United States as a producer or exporter.” See December 5, 2006 letter from Pradeep to the U.S. Department of Commerce.

Partial Rescission of New Shipper Review

We have determined that Pradeep fails to qualify for a new shipper review. As explained in the Department's Rescission Memorandum, the Department's regulations require that the requester of a new shipper review report the date of its first shipment to the United States. Pradeep has indicated in its August 31, 2006, request for a new shipper review that its first shipment of flanges entered the United States on March 21, 2006. However, information obtained from CBP, including Pradeep's own commercial invoices and shipping documents, indicate Pradeep was the exporter on a number of transactions that entered the United States three to five years before 2006. (The CBP information is not susceptible to public summary. However, the documents obtained from CBP are included in their entirety in the appendices to the Department's November 14, 2006, Pradeep Entry Memorandum.)

In its December 5, 2006, submission, Pradeep suggests it has “already reported or stated in its submissions to the Department all the cases where Pradeep Metals was the producer and exporter to the United States. Under those stated facts Pradeep Metals qualifies for a new shipper review.” Pradeep's December 5, 2006 letter (emphasis added). While the record indicates the March 21, 2006, entry was the first U.S. entry in which Pradeep was both the producer and the exporter, it is plainly evident from the entry documents in our Pradeep Entry Memorandum that on numerous occasions prior to that shipment Pradeep acted as the exporter (i.e., the shipper) of subject stainless steel flanges. The evidence indicates these flanges were in some cases produced by other Indian manufacturers, but were clearly shipped and exported to the United States by Pradeep, as evidenced by the commercial invoices and shipping documents issued by Pradeep itself. See, e.g., the sales documentation included at Appendices I, II, IV, V, VII and VIII of the Pradeep Entry Memorandum. In addition to the commercial invoices and packing lists, several of these entry packages include a CBP “Notice of Action” which identifies Pradeep as the shipper.

Pradeep continues in its comments by suggesting “another unaffiliated Indian flange company” may have contracted with Pradeep to provide tolling operations in producing flanges which “were then owned by that other unaffiliated Indian producer, and returned to that other Indian company for its own disposition.” But the documentation found in the Pradeep Entry Memorandum contradicts Pradeep's suggestion that someone else may have been shipping flanges that Pradeep manufactured in a tolling operation. The hypothetical scenario posited by Pradeep's December 5, 2006, letter is not consistent with the facts already on the record, which indicate Pradeep was the shipper and exporter of subject flanges (whether or not produced by Pradeep) prior to the instant period of new shipper review.

While Pradeep may not have previously acted as both manufacturer and exporter of any given prior shipment, the evidence clearly establishes that on numerous occasions prior to this new shipper review, Pradeep shipped subject stainless steel flanges to the United States. Therefore, we find that Pradeep is not a new shipper pursuant to section 751(a)(2)(B) of the Act, and that Pradeep's request for new shipper review does not meet the requirements of 19 CFR 351.214(b)(2)(iv)(A),(B) and (C). Accordingly, we are rescinding the new shipper review of Pradeep.

Assessment

The Department will instruct CBP to assess antidumping duties on all appropriate entries. For Pradeep, antidumping duties shall be assessed at rates equal to the cash deposit of estimated antidumping duties required at the time of entry, or withdrawal from warehouse, for consumption, in accordance with 19 CFR 351.212(c)(1)(I). The Department will issue liquidation instructions to CBP 15 days after the publication of this notice.

Notification to Importers

This notice serves as a final reminder to importers of their responsibility under 19 CFR 351.402(f) to file a certificate regarding the reimbursement of antidumping duties prior to liquidation of the relevant entries during the review period. Failure to comply with this requirement could result in the Secretary's presumption that reimbursement of antidumping duties occurred and subsequent assessment of double antidumping duties.

This notice also serves as the only reminder to any parties that are subject to administrative protective order (APO) of their responsibility concerning the disposition of proprietary information disclosed under APO in accordance with 19 CFR 351.305(a)(3). Timely written notification of the return/destruction of APO material or conversion to judicial protective order is hereby requested. Failure to comply with the regulations and terms of an APO is a violation which is subject to sanctions.

This notice is published in accordance with sections 751(a)(1) of the Act and 19 CFR 351.214(f)(3).

Dated: March 23, 2007.
Stephen J. Claeys,
Deputy Assistant Secretary for Import Administration.

[FR Doc. E7-5934 Filed 3-29-07; 8:45 am]

BILLING CODE 3510-DS-S